DEPARTMENT OF ENERGY

Federal Energy Regulatory Commission

[Project No. 13269-000]

Town of Bennington, Vermont; Notice of Conduit Exemption Application Accepted for Filing and Soliciting Comment, Motions To Intervene, and Competing Applications

October 30, 2008.

On July 23, 2008, Town of Bennington, Vermont filed an application, pursuant to section 16 U.S.C. 791a—825r of the Federal Power Act, for conduit exemption of the Bennington Water Treatment Project, to be located on the water treatment pipeline in Bennington County, Vermont.

The proposed Bennington Water Treatment Project consists of: (1) A proposed powerhouse containing one generating unit having an installed capacity of 17 kilowatts, and (2) appurtenant facilities. The Town of Bennington, Vermont, estimates the project would have an average annual generation of 140 megawatt-hours and be sold to a local utility.

Applicant Contact: Mr. Stuart A. Huard, Town Manager, Town of Bennington, Vermont, P.O. Box 469, Bennington, VT 05201, phone (802) 442-1037.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13203) in the docket number field to access the document. For assistance, call toll-free 1-866-208-3372.

Kimberly D. Bose,
Secretary.

[FR Doc. E8-26453 Filed 11-5-08; 8:45 am]

BILLING CODE 6717-01-P